INTERNATIONAL TRADE COMMISSION

Agency Form Submitted to OMB for Review

AGENCY: United States International Trade Commission.

ACTION: In accordance with the provisions of the Paperwork Reduction Act of 1995 (44 U.S.C. Chapter 35), the Commission has submitted a request for approval of surveys to the Office of Management and Budget for review.

Purpose of Information Collection: The forms are for use by the Commission in connection with analysis of the effectiveness of Section 337 remedial exclusion orders, instituted under the authority of section 337 of the Tariff Act of 1930 (19 U.S.C. 1337).

Summary of Proposal:

(1) Number of forms submitted: two.

(2) Title of form: USITC Survey Regarding Outstanding section 337 Exclusion Orders.

(3) Type of request: new.

(4) Frequency of use: survey, single data gathering, scheduled for 2005.

(5) Description of responding firms: complainants that obtained exclusion orders from the Commission following investigations under Section 337 that remain in effect at the time of the survey.

(6) Estimated number of responding firms: 54.

(7) Estimated number of hours to complete the forms: 54.

(8) Information obtained from the firm that qualifies as confidential business information will be so treated by the Commission and not disclosed in a manner that would reveal the individual operations of a firm.

DATES: To be assured of consideration, written comments must be received not later than thirty (30) days after publication of this notice.

Additional Information or Comment: Copies of the forms and supporting documents are posted on the Commission's Internet server at http://www.usitc.gov or may be obtained from Lynn I. Levine, Director, Office of Unfair Import Investigations, U.S. International Trade Commission, 500 E Street SW., Washington, DC 20436, telephone, (202) 205-2560. Comments about the proposals should be directed to the Office of Management and Budget, Office of Information and Regulatory Affairs, Room 10102, Washington, DC 20503.

Attention: Desk Officer for the International Trade Commission. All comments should be specific, indicating which part of the survey is objectionable, describing the concern in detail, and including specific suggested revisions or language changes. Copies of any comments should be provided to Robert Rogowsky, Director, Office of Operations, U.S. International Trade Commission, 500 E Street SW., Washington, DC 20436, who is the Commission's designated Senior Official under the Paperwork Reduction Act.

Hearing impaired individuals are advised that information on this matter can be obtained by contacting our TTD terminal (telephone no. (202) 205-1810). General information concerning the Commission may also be obtained by accessing its Internet server (http://www.usitc.gov).

By order of the Commission.
Issued: June 29, 2005.
Marilyn R. Abbott,
Secretary to the Commission.

[FR Doc. 05-13235 Filed 7-5-05; 8:45 am]

BILLING CODE 7020-02-P